DEPARTMENT OF DEFENSE

Department of the Army

[Docket ID: USA-2021-HQ-0014]

Proposed Collection; Comment Request

AGENCY: Department of the Army, Department of Defense (DoD).

ACTION: Information collection notice.

SUMMARY: In compliance with the Paperwork Reduction Act of 1995, the Army & Air Force Exchange Service (The Exchange) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 13, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Army & Air Force Exchange Service, Office of the General Counsel, Compliance Division, ATTN: Teresa Schreurs, 3911 South Walton Walker Blvd., Dallas TX 75236-1598 through email to PrivacyManager@aafes.com, or call the Exchange Compliance Division at 800-967-6067, Option 5.

SUPPLEMENTARY INFORMATION: Title; Associated Form; and OMB Number: Exchange Retail Sales Transaction Customer Satisfaction Survey; OMB Control Number 0702-0130.

Needs and Uses: The information collection requirement is necessary to provide the Exchange with holistic views of customers' shopping experiences. The survey aids the Exchange's marketing directorate to address the effectiveness of providing goods and services in applicable service availability meeting the patron's wants and desires.

Affected Public: Individuals or Households.

Annual Burden Hours: 1,000.

Number of Respondents: 20,000.

Responses per Respondent: 1.

Annual Responses: 20,000.

Average Burden per Response: 3 minutes.

Frequency: On Occasion.

Respondents are authorized customers of the Army and Air Force Exchange Service, who voluntarily provide opinions or comments regarding their recent shopping experience at an Exchange facility. The survey provides valuable data used to enhance the customer's experience. If the Exchange does not receive data through the survey, the Exchange's efforts to improve the customer shopping experience would not be as effective, efficient, or useful. Customer information is vital to the efficient and effective maintenance and improvement of the Exchange operations. The survey does not collect PII data.

Dated: July 7, 2021.
Aaron T. Siegel,
Alternate OSD Federal Register, Liaison Officer, Department of Defense.

[FR Doc. 2021-14919 Filed 7-13-21; 8:45 am]

BILLING CODE 5001-06-P